CIVIL RIGHTS COMMISSION

Sunshine Act Meeting Notice

AGENCY: United States Commission on Civil Rights.

ACTION: Notice of Commission telephonic business meeting.

DATES: Thursday, March 7, 2019 at 10:00 a.m. ET.

ADDRESSES: Meeting to take place by telephone.

FOR FURTHER INFORMATION CONTACT: Brian Walch, (202) 376-8371, publicaffairs@usccr.gov.

SUPPLEMENTARY INFORMATION: This business meeting is open to the public by telephone only. Participant Access Instructions: Listen Only for Public: (800) 682-9934; Conference ID: 552-5076. Please dial in 5-10 minutes prior to the start time.

Meeting Agenda

I. Approval of Agenda

II. Program Planning

Discussion and Vote on Report: Collateral Consequences: The Crossroads of Punishment, Redemption, and the Effects on Communities

III. Adjourn Meeting

Dated: February 26, 2019.
Brian Walch,
Director, Communications and Public Engagement.

[FR Doc. 2019-03707 Filed 2-26-19; 4:15 pm]

BILLING CODE 6335-01-P